DEPARTMENT OF COMMERCE

International Trade Administration

A-570-892

Carbazole Violet Pigment 23 from the People's Republic of China: Final Results of Antidumping Duty Administrative Review

AGENCY: Import Administration, International Trade Administration, Department of Commerce.

SUMMARY: On September 8, 2008, the Department of Commerce (the Department) published the preliminary results and partial rescission of the 2006-2007 administrative review of the antidumping duty order on carbazole violet pigment 23 (CVP 23) from the People's Republic of China (PRC). See Carbazole Violet Pigment 23 from the People's Republic of China: Preliminary Results and Partial Rescission of Antidumping Duty Administrative Review, 73 FR 52007 (September 8, 2008) (Preliminary Results). We gave interested parties an opportunity to comment on the Preliminary Results. We received no comments. Therefore, the margin for the final results does not differ from the preliminary results. The final dumping margin is listed below in the section entitled “Final Results of Review.”

EFFECTIVE DATE: January 9, 2009.

FOR FURTHER INFORMATION CONTACT: Deborah Scott or Robert James, AD/CVD Operations, Office 7, Import Administration, International Trade Administration, U.S. Department of Commerce, 14th Street and Constitution Avenue, NW, Washington, DC 20230; telephone: (202) 482-2657 or (202) 482-0649, respectively.

SUPPLEMENTARY INFORMATION:

Background

On September 8, 2008, the Department published in the Federal Register the Preliminary Results. We invited parties to comment on the Preliminary Results. We did not receive any comments.

Period of Review

The period of review is December 1, 2006 through November 30, 2007.

Scope of the Order

The merchandise covered by the order is carbazole violet pigment 23 identified as Color Index No. 51319 and Chemical Abstract No. 6358-30-1, with the chemical name of diindolo [3,2-b:3',2'-m] triphenodioxazine, 8,18-dichloro-5, 15-diethy-5,15-dihydro-, and molecular formula of C34H22Cl2,N4O2.¹ The subject merchandise includes the crude pigment in any form (e.g., dry powder, paste, wet cake) and finished pigment in the form of presscake and dry color. Pigment dispersions in any form (e.g., pigments dispersed in oleoresins, flammable solvents, water) are not included within the scope of this order. The merchandise subject to this order is classifiable under subheading 3204.17.9040 of the Harmonized Tariff Schedule of the United States (HTSUS). Although the HTSUS subheading is provided for convenience and customs purposes, the written description of the scope of the order is dispositive.

¹ The bracketed section of the product description, [3,2-b:3',2'-m], is not business proprietary information, but is part of the chemical nomenclature.

Separate Rates

In the Preliminary Results, the Department noted that none of the 11 companies in this administrative review responded to the Department's separate rate application/certification, including the single mandatory respondent in this review, Goldlink Industries Company, Limited (Goldlink). Goldlink also failed to respond to the Department's antidumping questionnaire. Accordingly, the Department found that Goldlink, along with the ten other companies in this review (Aesthetic Colortech (Shanghai) Company, Limited (Aesthetic Colortech); Anhui Worldbest IE Company, Limited (Anhui Worldbest); Cidic Company, Limited (Cidic); Ganguink Company, Pigment Division (Ganguink); Hunan Sunlogistics International Company, Limited (Hunan Sunlogistics); Hygeia-Chem (Shanghai) Company, Limited (Hygeia-Chem); Pudong Prime International Logistic Incorporated (Pudong Prime); Shanghai Rainbow Dyes Import and Export (Shanghai Rainbow); Sinocol Corporation, Limited (Sinocol); and Yangcheng Tiacheng Chemical Company, Limited (Yangcheng Chemical)) did not qualify for separate rate status. See Preliminary Results, 73 FR at 52009. As a result, the Department considered these 11 companies to be part of the PRC-wide entity, which is assigned a rate of 241.32 percent based on facts otherwise available with an adverse inference. See Preliminary Results, 73 FR at 52009-52011. The Department did not receive any comments on this issue.

Use of Facts Otherwise Available and the PRC-Wide Rate

As noted above, the Department determined that Aesthetic Colortech, Anhui Worldbest, Cidic, Ganguink, Goldlink, Hunan Sunlogistics, Hygeia-Chem, Pudong Prime, Shanghai Rainbow, Sinocol, and Yangcheng Chemical did not demonstrate eligibility for separate rate status, and thus were properly considered to be part of the PRC-wide entity. As the Department found that the PRC-wide entity failed to cooperate to the best of its ability in responding to the Department's requests for information and thereby impeded the Department's proceeding, the Department assigned the PRC-wide entity a rate based on facts otherwise available with an adverse inference pursuant to sections 776(a)(1) and 776(a)(2)(A), (B), and (C) and section 776(b) of the Tariff Act of 1930, as amended (the Act). See Preliminary Results, 73 FR at 52009-52010. The Department did not receive any comments regarding its application of adverse facts available (AFA) to the PRC-wide entity in the Preliminary Results. Therefore, for these final results, the Department has not altered its analysis or decision to apply total AFA to the PRC-wide entity.

Final Results of Review

We determine that the following antidumping duty margin exists for the period December 1, 2006 through November 30, 2007:

Exporter/Manufacturer | Margin (percent)
PRC-Wide Rate (including Aesthetic Colortech, Anhui Worldbest, Cidic, Ganguink, Goldlink, Hunan Sunlogistics, Hygeia-Chem, Pudong Prime, Shanghai Rainbow, Sinocol, and Yangcheng Chemical) | 241.32%%

Assessment of Antidumping Duties

The Department will determine, and U.S. Customs and Border Protection (CBP) shall assess, antidumping duties on all appropriate entries pursuant to section 751(a)(1)(B) of the Act and 19 CFR 351.212(b)(1). The Department intends to issue assessment instructions directly to CBP 15 days after the date of publication of the final results of this review.

Cash Deposit Requirements

The following cash-deposit requirements will be effective upon publication of the final results for shipments of the subject merchandise entered, or withdrawn from warehouse, for consumption on or after the publication date of the final results, as provided by section 751(a)(2)(C) of the Act: (1) for subject merchandise exported by the PRC-wide entity, including Aesthetic Colortech, Anhui Worldbest, Cidic, Ganguink, Goldlink, Hunan Sunlogistics, Hygeia-Chem, Pudong Prime, Shanghai Rainbow, Sinocol, and Yangcheng Chemical, the cash-deposit rate will be equal to 241.32 percent; (2) for previously investigated or reviewed PRC and non-PRC exporters not listed above that have a separate rate, the cash deposit rate will continue to be the exporter-specific rate published for the most recent period; (3) for all other PRC exporters of subject merchandise which have not been found to be entitled to a separate rate, the cash-deposit rate will be the PRC-wide rate of 241.32 percent; (4) for all non-PRC exporters of subject merchandise which have not received their own rate, the cash-deposit rate will be the rate applicable to the PRC exporter that supplied that non-PRC exporter.

These deposit requirements, when imposed, shall remain in effect until further notice.

Notification to Interested Parties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a final reminder to parties subject to the administrative protective order (APO) of their responsibility concerning the return or destruction of proprietary information disclosed under the APO in accordance with 19 CFR 351.305. Timely written notification of the return or destruction of APO materials or conversion to judicial protective order is hereby requested. Failure to comply with the regulations and the terms of an APO is a sanctionable violation.

This notice of final results is issued and published in accordance with sections 751(a)(1) and 777(i)(1) of the Act.

Dated: January 2, 2009.
David M. Spooner,
Assistant Secretary for Import Administration.

[FR Doc. E9-224 Filed 1-8-09; 8:45 am]

BILLING CODE 3510-DS-S